DEPARTMENT OF ENERGY

Federal Energy Regulatory Commission

Combined Notice of Filings #1

Take notice that the Commission received the following electric corporate filings:

Docket Numbers: EC18-30-000.

Applicants: Mojave Solar LLC, Arizona Solar One LLC, Algonquin Power & Utilities Corp.

Description: Application for Authorization Under Section 203 of the Federal Power Act for the Disposition of Jurisdictional Facilities, et al. of Mojave Solar LLC, et al.

Filed Date: 12/8/17.

Accession Number: 20171208-5158.

Comments Due: 5 p.m. ET 12/29/17.

Take notice that the Commission received the following electric rate filings:

Docket Numbers: ER18-251-005.

Applicants: California Independent System Operator Corporation.

Description: Tariff Amendment: 2017-12-08 Amendment to Filing CAISO BC Hydro Data Sharing Agreement to be effective 2/15/2018.

Filed Date: 12/8/17.

Accession Number: 20171208-5133.

Comments Due: 5 p.m. ET 12/29/17.

Docket Numbers: ER18-251-006.

Applicants: California Independent System Operator Corporation.

Description: Tariff Amendment: 2017-12-11 Amendment to Pending Filing BC Hydro Data Sharing Agreement to be effective 2/15/2018.

Filed Date: 12/11/17.

Accession Number: 20171211-5057.

Comments Due: 5 p.m. ET 1/2/18.

Docket Numbers: ER18-283-000.

Applicants: EUI Affiliate LLC.

Description: Supplement to November 13, 2017 EUI Affiliate LLC tariff filing (Notice of Non-Material Change in Status).

Filed Date: 12/11/17.

Accession Number: 20171211-5126.

Comments Due: 5 p.m. ET 1/2/18.

Docket Numbers: ER18-418-000.

Applicants: EGP Stillwater Solar, LLC.

Description: § 205(d) Rate Filing: EGP Stillwater Solar, LLC SFA to be effective 11/16/2017.

Filed Date: 12/11/17.

Accession Number: 20171211-5000.

Comments Due: 5 p.m. ET 1/2/18.

Docket Numbers: ER18-419-000.

Applicants: EGP Stillwater Solar PV II, LLC.

Description: § 205(d) Rate Filing: EGP Stillwater Solar PV II, LLC SFA to be effective 11/16/2017.

Filed Date: 12/11/17.

Accession Number: 20171211-5001.

Comments Due: 5 p.m. ET 1/2/18.

Docket Numbers: ER18-420-000.

Applicants: Midcontinent Independent System Operator, Inc.

Description: § 205(d) Rate Filing: 2017-12-11_Termination of SA 2673_Odell Wind_NSP E&P Agreement to be effective 12/12/2017.

Filed Date: 12/11/17.

Accession Number: 20171211-5031.

Comments Due: 5 p.m. ET 1/2/18.

Docket Numbers: ER18-421-000.

Applicants: Southwest Power Pool, Inc.

Description: Petition for Waiver of Tariff Provisions of Southwest Power Pool, Inc.

Filed Date: 12/8/17.

Accession Number: 20171208-5172.

Comments Due: 5 p.m. ET 12/29/17.

Docket Numbers: ER18-422-000.

Applicants: PJM Interconnection, L.L.C.

Description: § 205(d) Rate Filing: Amendment to Service Agreement Nos. 3071 and 3072, Queue Nos. U1-059/W1-056 to be effective 8/30/2011.

Filed Date: 12/11/17.

Accession Number: 20171211-5045.

Comments Due: 5 p.m. ET 1/2/18.

Docket Numbers: ER18-423-000.

Applicants: Pacific Gas and Electric Company.

Description: § 205(d) Rate Filing: SVP Work Performance Agreement for NRS Breaker Replacement (SA 343) to be effective 12/12/2017.

Filed Date: 12/11/17.

Accession Number: 20171211-5136.

Comments Due: 5 p.m. ET 1/2/18.

Docket Numbers: ER18-424-000.

Applicants: NSTAR Electric Company.

Description: § 205(d) Rate Filing: Covanta SEMASS IA to be effective 12/1/2017.

Filed Date: 12/11/17.

Accession Number: 20171211-5143.

Comments Due: 5 p.m. ET 1/2/18.

Take notice that the Commission received the following electric securities filings:

Docket Numbers: ES18-17-000.

Applicants: KCP&L Greater Missouri Operations Company.

Description: Application for Authorization of Issuance of Short-Term Debt Securities Under Section 204 of the Federal Power Act of KCP&L Greater Missouri Operations Company.

Filed Date: 12/11/17.

Accession Number: 20171211-5128.

Comments Due: 5 p.m. ET 1/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2017.
Kimberly D. Bose,
Secretary.

[FR Doc. 2017-27175 Filed 12-15-17; 8:45 am]

BILLING CODE 6717-01-P